DEPARTMENT OF TRANSPORTATION

Federal Aviation Administration

14 CFR Part 39

[Docket No. FAA-2021-0496; Project Identifier MCAI-2020-00393-R]

RIN 2120-AA64

Airworthiness Directives; Airbus Helicopters and Airbus Helicopters Deutschland GmbH (AHD) Helicopters

AGENCY: Federal Aviation Administration (FAA), DOT.

ACTION: Notice of proposed rulemaking (NPRM).

SUMMARY: The FAA proposes to adopt a new airworthiness directive (AD) for Airbus Helicopters Model AS332C, AS332C1, AS332L, AS332L1, AS350B, AS350BA, AS350B1, AS350B2, AS350B3, AS350D, AS355E, AS355F, AS355F1, AS355F2, AS355N, AS355NP, AS-365N2, AS 365 N3, EC120B, EC130B4, EC130T2, EC 155B, EC155B1, SA-365N, and SA-365N1 helicopters; and Airbus Helicopters Deutschland GmbH (AHD) Model EC135P1, EC135P2, EC135P2+, EC135P3, EC135T1, EC135T2, EC135T2+, EC135T3, MBB-BK117 C-2, and MBB-BK117 D-2 helicopters. This proposed AD was prompted by failure of an Emergency Flotation System (EFS) float compartment to inflate during maintenance of the EFS. This proposed AD would require inspecting certain EFSs and depending on the results, marking certain parts or removing certain parts from service, as specified in a European Union Aviation Safety Agency (EASA) AD, which is proposed for incorporation by reference (IBR). The FAA is proposing this AD to address the unsafe condition on these products.

DATES: The FAA must receive comments on this proposed AD by August 2, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material that is proposed for IBR in this AD, contact EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket on the internet at https://www.regulations.gov by searching for and locating Docket No. FAA-2021-0496.

Examining the AD Docket

You may examine the AD docket on the internet at https://www.regulations.gov by searching for and locating Docket No. FAA-2021-0496; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Andrea Jimenez, Aerospace Engineer, Airframe and Propulsion Section, FAA, New York ACO Branch, 1600 Stewart Avenue, Suite 410, Westbury, NY 11590; telephone 516-228-7330; fax 516-794-5531; email 9-avs-nyaco-cos@faa.gov.

SUPPLEMENTARY INFORMATION:

Comments Invited

The FAA invites you to send any written relevant data, views, or arguments about this proposal. Send your comments to an address listed under ADDRESSES. Include “Docket No. FAA-2021-0496; Project Identifier MCAI-2020-00393-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Andrea Jimenez, Aerospace Engineer, Airframe and Propulsion Section, FAA, New York ACO Branch, 1600 Stewart Avenue, Suite 410, Westbury, NY 11590; telephone 516-228-7330; fax 516-794-5531; email 9-avs-nyaco-cos@faa.gov. Any commentary that the FAA receives that is not specifically designated as CBI will be placed in the public docket for this rulemaking.

Discussion

EASA, which is the Technical Agent for the Member States of the European Union, has issued EASA AD 2020-0064, dated March 19, 2020 (EASA AD 2020-0064), to correct an unsafe condition for Airbus Helicopters (AH), formerly Eurocopter, Eurocopter France, Aerospatiale Model EC 120 B, EC 175 B, AS 332 C, AS 332 C1, AS 332 L, AS 332 L1, AS 350 B, AS 350 B1, AS 350 B2, AS 350 BA, AS 350 BB, AS 350 B3, AS 350 D, EC 130 B4, EC 130 T2, AS 355 E, AS 355 F, AS 355 F1, AS 355 F2, AS 355 N, AS 355 NP, SA 365 N, SA 365 N1, AS 365 N2, AS 365 N3, EC 155 B, and EC 155 B1 helicopters. EASA AD 2020-0064 also corrects an unsafe condition for Airbus Helicopters Deutschland GmbH (AHD), formerly Eurocopter Deutschland GmbH; and Airbus Helicopters Inc., formerly American Eurocopter LLC, Eurocopter España S.A. Model MBB-BK117 C-2, MBB-BK117 D-2, EC 135 P1, EC 135 P2, EC 135 P2+, EC 135 P3, EC 135 T1, EC 135 T2, EC 135 T2+, EC 135 T3, EC 635 P2+, EC 635 P3, EC 635 T1, EC 635 T2+, and EC 635 T3 helicopters. Model EC635 P2+, EC635 P3, EC635 T1, EC635 T2+, and EC635 T3 helicopters are not certificated by the FAA and are not included on the U.S. type certificate data sheet except where the U.S. type certificate data sheet explains that the Model EC635T2+ helicopter having serial number 0858 was converted from Model EC635T2+ to Model EC135T2+; this proposed AD therefore does not include Model EC635 P2+, EC635 P3, EC635 T1, EC635 T2+, and EC635 T3 helicopters in the applicability.

This proposed AD was prompted by failure of an EFS float compartment to inflate during maintenance of the EFS. The FAA is proposing this AD to address a blocked float supply hose. The unsafe condition, if not addressed, could result in partial inflation of an EFS float during an emergency landing on water and subsequently preventing a timely egress from the helicopter, which could result in injury to helicopter occupants. See EASA AD 2020-0064 for additional background information.

Related Service Information Under 1 CFR part 51

EASA AD 2020-0064 specifies inspecting certain EFSs and depending on the results, marking a float supply hose with a green dot with indelible ink if the float supply hose passes an inspection, replacing the float supply hose with a serviceable float supply hose, or replacing an affected EFS with a serviceable EFS. EASA AD 2020-0064 also prohibits installing a float supply hose unless it passes the inspection and is marked.

This material is reasonably available because the interested parties have access to it through their normal course of business or by the means identified in the ADDRESSES section.

FAA's Determination and Requirements of This Proposed AD

These products have been approved by the aviation authority of another country, and are approved for operation in the United States. Pursuant to the bilateral agreement with the State of Design Authority, the FAA has been notified of the unsafe condition described in EASA AD 2020-0064. The FAA is proposing this AD after evaluating all the relevant information and determining the unsafe condition described previously is likely to exist or develop in other products of these same type designs.

Proposed AD Requirements

This proposed AD would require accomplishing the actions specified in EASA AD 2020-0064, described previously, as incorporated by reference, except for any differences identified as exceptions in the regulatory text of this proposed AD and except as discussed under “Differences Between this Proposed AD and the EASA AD.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2020-0064 will be incorporated by reference in the FAA final rule. This proposed AD would, therefore, require compliance with EASA AD 2020-0064 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0064 that is required for compliance with EASA AD 2020-0064 will be available on the internet at https://www.regulations.gov by searching for and locating Docket No. FAA-2021-0496 after the FAA final rule is published.

Differences Between This Proposed AD and the EASA AD

EASA AD 2020-0064 applies to Airbus Helicopters Model EC120B, EC175B, AS332C, AS332C1, AS332L, AS332L1, AS350B, AS350B1, AS350B2, AS350BA, AS350BB, AS350B3, AS350D, EC130B4, EC130T2, AS355E, AS355F, AS355F1, AS355F2, AS355N, AS355NP, SA-365N, SA-365N1, AS-365N2, AS 365 N3, EC155 B, and EC155B1 helicopters and Airbus Helicopters Deutschland GmbH Model MBB-BK 117 C-2, MBB-BK 117 D-2, EC135P1, EC135P2, EC135P2+, EC135P3, EC135T1, EC135T2, EC135T2+, EC135T3, EC635 P2+, EC635P3, EC635T1, EC635T2+, and EC635T3 helicopters, whereas this proposed AD would not include Model AS350BB, EC175B, EC635P2+, EC635P3, EC635T1, EC635T2+, and EC635T3 helicopters because these models are not FAA type-certificated. Where the service information referenced in EASA AD 2020-0064 requires certain compliance times depending on whether the helicopter is operated over water, this proposed AD would require compliance within 100 hours time-in-service (TIS) instead. Where the service information referenced in EASA AD 2020-0064 specifies “work must be performed on the helicopter by the operator,” this proposed AD would require that the work be accomplished by a mechanic that meets the requirements of 14 CFR part 65 subpart D. Where some of the service information referenced in EASA AD 2020-0064 specifies replacing or removing an affected hose that fails the inspection, this proposed AD would require removing the hose from service instead. Where some of the service information referenced in EASA AD 2020-0064 specifies to discard certain parts, this proposed AD would require removing those parts from service instead. Where some of the service information referenced in EASA AD 2020-0064 specifies to return the EFS to the Safran Aerosystems network or clogged hoses to Safran Aerosystems Services, this proposed AD would not include those requirements. Where the service information referenced in EASA AD 2020-0064 specifies to submit certain information to the manufacturer, this proposed AD does not include that requirement.

Costs of Compliance

The FAA estimates that this proposed AD affects 1,900 helicopters of U.S. Registry. Labor rates are estimated at $85 per work-hour. Based on these numbers, the FAA estimates that operators may incur the following costs in order to comply with this proposed AD.

Inspecting the EFS would take up to about 8 work-hours for an estimated cost of up to $680 per helicopter and $1,292,000 for the U.S. fleet.

Replacing an EFS hose would take about 1 work-hour and parts cost between $500 and $2,000 per hose, and up to $11,000 for a set of float supply hoses, for an estimated cost of up to $11,085 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters and Airbus Helicopters Deutschland GmbH (AHD): Docket No. FAA-2021-0496; Project Identifier MCAI-2020-00393-R.

(a) Comments Due Date

The FAA must receive comments by August 2, 2021.

(b) Affected Airworthiness Directives (ADs)

None.

(c) Applicability

This AD applies to the following helicopters, certificated in any category, with an affected part as defined in European Union Aviation Safety Agency (EASA) AD 2020-0064, dated March 19, 2020 (EASA AD 2020-0064), installed:

(1) Airbus Helicopters Model AS332C, AS332C1, AS332L, AS332L1, AS350B, AS350BA, AS350B1, AS350B2, AS350B3, AS350D, AS355E, AS355F, AS355F1, AS355F2, AS355N, AS355NP, AS-365N2, AS 365 N3, EC120B, EC130B4, EC130T2, EC 155B, EC155B1, SA-365N, and SA-365N1 helicopters, and

Note 1 to paragraph (c)(1): Helicopters with an AS350B3e designation are Model AS350B3 helicopters.

(2) Airbus Helicopters Deutschland GmbH (AHD) Model EC135P1, EC135P2, EC135P2+, EC135P3, EC135T1, EC135T2, EC135T2+, EC135T3, MBB-BK117 C-2, and MBB-BK117 D-2 helicopters.

Note 2 to paragraph (c)(2): Helicopters with an EC135P3H designation are Model EC135P3 helicopters. Helicopters with an EC135T3H designation are Model EC135T3 helicopters. Helicopters with an MBB-BK117 C-2e designation are Model MBB-BK117 C-2 helicopters.

(d) Subject

Joint Aircraft System Component (JASC) Code: 2500, Cabin Equipment/Furnishings.

(e) Unsafe Condition

This AD was prompted by failure of an Emergency Flotation System (EFS) float compartment to inflate during maintenance of the EFS. The FAA is issuing this AD to address a blocked float supply hose. The unsafe condition, if not addressed, could result in partial inflation of an EFS float during an emergency landing on water and subsequently preventing a timely egress from the helicopter, which could result in injury to helicopter occupants.

(f) Compliance

Comply with this AD within the compliance times specified, unless already done.

(g) Requirements

Except as specified in paragraph (h) of this AD: Comply with all required actions and compliance times specified in, and in accordance with, EASA AD 2020-0064.

(h) Exceptions to EASA AD 2020-0064

(1) Where EASA AD 2020-0064 refers to its effective date, this AD requires using the effective date of this AD.

(2) Where paragraph (1) of the EASA AD requires inspecting each affected part within the compliance time defined in section 1.E of the applicable ASB, this AD requires inspecting each affected part within 100 hours time-in-service (TIS) after the effective date of this AD.

(3) Where the service information referenced in paragraph (1) of EASA AD 2020-0064 specifies that “the work must be performed on the helicopter by the operator,” this AD requires that the work be accomplished by a mechanic that meets the requirements of 14 CFR part 65 subpart D.

(4) Where the service information referenced in EASA AD 2020-0064 specifies replacing or removing an affected hose that fails the inspection, this AD requires removing the hose from service.

(5) Where the service information referenced in EASA AD 2020-0064 specifies to discard certain parts, this AD requires removing those parts from service.

(6) Where the service information referenced in EASA AD 2020-0064 specifies returning the EFS to the Safran Aerosystems network for compliance or returning clogged hoses to Safran Aerosystems Services, this AD does not include those requirements.

(7) The “Remarks” section of EASA AD 2020-0064 does not apply to this AD.

(i) No Reporting Requirement

Although the service information referenced in EASA AD 2020-0064 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to Manager, International Validation Branch, FAA, 10101 Hillwood Pkwy., Fort Worth, TX 76177; telephone (817) 222-5110; email 9-AVS-AIR-730-AMOC@faa.gov.

(2) Before using any approved AMOC, notify your appropriate principal inspector, or lacking a principal inspector, the manager of the local flight standards district office/certificate holding district office.

(k) Related Information

(1) For EASA AD 2020-0064, contact EASA, Konrad-Adenauer-Ufer 3, 50668 Cologne, Germany; telephone +49 221 8999 000; email ADs@easa.europa.eu; internet www.easa.europa.eu. You may find this EASA AD on the EASA website at https://ad.easa.europa.eu. You may view this material at the FAA, Office of the Regional Counsel, Southwest Region, 10101 Hillwood Pkwy., Room 6N-321, Fort Worth, TX 76177. For information on the availability of this material at the FAA, call (817) 222-5110. This material may be found in the AD docket on the internet at https://www.regulations.gov by searching for and locating Docket No. FAA-2021-0496.

(2) For more information about this AD, contact Andrea Jimenez, Aerospace Engineer, Airframe and Propulsion Section, FAA, New York ACO Branch, 1600 Stewart Avenue, Suite 410, Westbury, NY 11590; telephone 516-228-7330; fax 516-794-5531; email 9-avs-nyaco-cos@faa.gov.

Issued on June 9, 2021.
Ross Landes,
Deputy Director for Regulatory Operations, Compliance & Airworthiness Division, Aircraft Certification Service.

[FR Doc. 2021-12517 Filed 6-15-21; 8:45 am]

BILLING CODE 4910-13-P